DEPARTMENT OF ENERGY

Federal Energy Regulatory Commission

[Docket Nos. CP03-302-000, CP03-303-000, CP03-304-000, PF03-1-000 and CP03-301-000]

Cheyenne Plains Gas Pipeline Company and Colorado Interstate Gas Company; Notice of Site Visit

November 12, 2003.

On November 19, 2003, the staff of the Office of Energy Projects, staff of the City of Brush!, Colorado, and representatives of Cheyenne Plains Gas Pipeline and Colorado Interstate Gas Pipeline Companies will conduct a site visit of the proposed Cheyenne Plains Gas Pipeline Project. The site visit will specifically focus on the City of Brush!/Morgan County Water Quality District Well Field Route Variation, which is described in the Cheyenne Plains Draft Environmental Impact Statement, which was issued on September 30, 2003.

All interested parties may attend. Those planning to attend must provide their own transportation. Interested parties can meet staff at the Brush! City Hall, located at Edison and Carson, in Brush!, Colorado at 10:15 a.m. We will depart to the route variation promptly at 10:30 a.m.

For further information, please contact the Office of External Affairs at (202) 502-6088 or toll free at 1-866-208-3372.

Magalie R. Salas,
Secretary.

[FR Doc. E3-00321 Filed 11-18-03; 8:45 am]

BILLING CODE 6717-01-P